DEPARTMENT OF HEALTH AND HUMAN SERVICES

National Institutes of Health

National Toxicology Program Board of Scientific Counselors; Announcement of Meeting; Request for Comments; Amended Notice

SUMMARY: This notice amends Federal Register notice 82 FR 20484, published May 2, 2017, announcing the National Toxicology Program (NTP) Board of Scientific Counselors (BSC) meeting and requesting comments. The deadline for registration has been changed to June 29, 2017. The BSC will provide input to the NTP on programmatic activities and issues. The preliminary agenda has been updated and topics include reports from the NIEHS/NTP Director and NTP Associate Director, and presentations on programmatic activities including NTP efforts and challenges toward studying real world exposures and a state of the science evaluation of transgenerational inheritance of health effects. This meeting will also provide opportunity for input on an effort being coordinated by the Interagency Coordinating Committee on the Validation of Alternative Methods (ICCVAM) to explore new approaches for evaluating the safety of chemicals and medical products in the United States. All other information in the original notice has not changed. Interested individuals should visit the meeting Web page to stay abreast of agenda topics and other arrangements for the meeting. Information about the meeting and registration is available at http://ntp.niehs.nih.gov/go/165.

DATES: Meeting: June 29, 2017; it begins at 8:30 a.m. Eastern Standard Time (EST) until adjournment.

Dated: May 11, 2017.
John R. Bucher,
Associate Director, National Toxicology Program.

[FR Doc. 2017-10695 Filed 5-24-17; 8:45 am]

BILLING CODE 4140-01-P